DEPARTMENT OF AGRICULTURE

Animal and Plant Health Inspection Service

[Docket No. APHIS-2023-0076]

Notice of Request for Approval of an Information Collection; Comprehensive Aquaculture Health Program; Use of MI-CO Application

AGENCY: Animal and Plant Health Inspection Service, USDA.

ACTION: New information collection; comment request.

SUMMARY: In accordance with the Paperwork Reduction Act of 1995, this notice announces the Animal and Plant Health Inspection Service's intention to request approval of a new information collection associated with the use of a mobile application to collect certain information needed to manage a comprehensive aquaculture health program.

DATES: We will consider all comments that we receive on or before December 26, 2023.

ADDRESSES: You may submit comments by either of the following methods:

• Federal eRulemaking Portal: Go to www.regulations.gov. Enter APHIS-2023-0076 in the Search field. Select the Documents tab, then select the Comment button in the list of documents.

• Postal Mail/Commercial Delivery: Send your comment to Docket No. APHIS-2023-0076, Regulatory Analysis and Development, PPD, APHIS, Station 3A-03.8, 4700 River Road, Unit 118, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Comprehensive Aquaculture Health Program, contact Dr. Kathleen Hartman, Senior Veterinarian, Aquaculture Health, VS, APHIS, 4700 River Road Unit 39, Riverdale, MD 20737; (813) 671-5230 ext. 119; email: kathleen.h.hartman@usda.gov. For more information about the information collection process, contact Mr. Joseph Moxey, APHIS' Paperwork Reduction Act Coordinator, at (301) 851-2483; email: joseph.moxey@usda.gov.

SUPPLEMENTARY INFORMATION: Title: Comprehensive Aquaculture Health Program; Use of MI-CO Application.

OMB Control Number: 0579-XXXX.

Type of Request: Approval of a new information collection.

Abstract: The U.S. Department of Agriculture (USDA), Animal and Plant Health Inspection Service (APHIS), Veterinary Services (VS) unit is responsible for, among other things, protecting the health of the nation's aquatic livestock and supporting safe trade of those animals and their products. This authority is provided under the Animal Health Protection Act (7 U.S.C. 8301 et seq.). Further, Executive Order 13921, Promoting American Seafood Competitiveness and Economic Growth, rescinded the 2008 National Aquatic Animal Health Plan, and authorized a new national aquaculture health plan establishing USDA as the competent authority for the protection, inspection, and certification of aquatic livestock health.

The National Aquaculture Health Plan and Standards (NAHPS) provides guidance for pathogen testing, reporting, and laboratory standards in addition to outlining health inspection options for aquatic livestock. One of these inspection options is the Comprehensive Aquaculture Health Program Standards (CAHPS). CAHPS was developed in partnership with the U.S. aquaculture industry as a voluntary program that establishes a framework to improve and verify the health of aquatic livestock produced in the United States. Principles outlined in the CAHPS provide for early disease detection, surveillance, risk mitigation, reporting, and response for the control of aquatic animal pathogens, especially those reportable to the World Organization for Animal Health (WOAH), and to prevent their dissemination via aquatic animal sale, movement, and trade.

VS and its CAHPS/aquaculture industry affiliates will use a mobile application provided through the MI-Corporation (MI-CO) to carry out CAHPS functions and evaluate and verify aquatic livestock health on premises. The application uses a MI-CO platform for a server/client-based mobile application that supports data collection using forms that can be deployed to a mobile device, like a smartphone or tablet, and used in an internet-connected or disconnected environment. CAHPS participants will use the application to collect general participant and aquatic health team information; assess the risk of incursion and spread of aquatic pathogens of concern; carry out disease detection and surveillance and report laboratory test results; report any disease outbreaks and presence of pathogens of concern; and document outbreak response and recovery via surveillance and response plans. Participants can also log outbreak communication plans and biosecurity plans using the application and use a CAHPS Workbook as a template for CAHPS work.

The MI-CO app will retain information from inspection to inspection. VS will update participants' information annually. VS will not physically collect or remove from the premises any of the documentation unless the participant gives express permission to attach documents to their CAHPS portfolio in the app. VS personnel will annually review and enter information for every CAHPS participant to support compliance with CAHPS.

We are asking Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.96 hours per response.

Respondents: U.S. aquaculture producers and industry representatives.

Estimated annual number of respondents: 30.

Estimated annual number of responses per respondent: 13.

Estimated annual number of responses: 395.

Estimated total annual burden on respondents: 378 hours. (Due to averaging, the total annual burden hours may not equal the product of the annual number of responses multiplied by the reporting burden per response.)

All responses to this notice will be summarized and included in the request for OMB approval. All comments will also become a matter of public record.

Done in Washington, DC, this 17th day of October 2023.
Michael Watson,
Acting Administrator, Animal and Plant Health Inspection Service.

[FR Doc. 2023-23484 Filed 10-23-23; 8:45 am]

BILLING CODE 3410-34-P